DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act (PRA) of 1995 (44 U.S.C. chapter 35), the OCC, the Board, and the FDIC (the agencies) may not conduct or sponsor, and the respondent is not required to respond to, an information collection unless it displays a currently valid Office of Management and Budget (OMB) control number. The agencies, under the auspices of the Federal Financial Institutions Examination Council (FFIEC), have approved the publication of proposed revisions to the Regulatory Capital Reporting for Institutions Subject to the Advanced Capital Adequacy Framework (FFIEC 101) for public comment. The proposed revisions to the FFIEC 101 are consistent with the revised regulatory capital rule approved by the agencies in July 2013 (regulatory capital rule), as amended by subsequent revisions to the supplementary leverage ratio (SLR).

The proposed collection of SLR data in Tables 1 and 2 of FFIEC 101 Schedule A would apply to all banking organizations subject to the advanced approaches risk-based capital rule (generally, banking organizations with $250 billion or more in total consolidated assets or $10 billion or more in on-balance sheet foreign exposures) (advanced approaches banking organizations), unless the advanced approaches banking organization is (i) a consolidated subsidiary of a bank holding company (BHC), savings and loan holding company (SLHC), or depository institution that is subject to the disclosure requirements in Table 13 of section 173 of the advanced approaches risk-based capital rule (advanced approaches rule), or (ii) a subsidiary of a non-U.S. banking organization that is subject to comparable public disclosure requirements in its home jurisdiction. Advanced approaches banking organizations would begin reporting the proposed SLR data items in FFIEC 101 Schedule A, Tables 1 and 2, effective with the September 30, 2016, reporting date.

Separately, the proposed collection of SLR data in Tables 1 and 2 of FFIEC 101 Schedule A would apply to any U.S. intermediate holding companies (IHCs) formed or designated for purposes of compliance with the Board's Regulation YY (12 CFR 252.153) that are advanced approaches banking organizations, effective with the March 31, 2018, reporting date. Any subsidiary BHC controlled by a foreign banking organization (FBO) that was subject to the SLR requirements prior to the formation of an IHC would complete FFIEC 101 Schedule A, Tables 1 and 2, through the December 31, 2017, reporting date. The agencies would release publicly Tables 1 and 2 of FFIEC 101 Schedule A for all covered banking organizations, including IHCs that are required to complete Schedule A.

At the end of the comment period, the comments will be analyzed to determine the extent to which the FFIEC and the agencies should modify the proposed revisions. The agencies will then submit the proposed revisions to OMB for review and final approval.

DATES: Comments must be submitted on or before June 17, 2016.

ADDRESSES: Interested parties are invited to submit written comments to any or all of the agencies. All comments, which should refer to the OMB control number(s), will be shared among the agencies.

OCC: Because paper mail in the Washington, DC, area and at the OCC is subject to delay, commenters are encouraged to submit comments by email if possible to prainfo@occ.treas.gov. Comments may be sent to: Legislative and Regulatory Activities Division, Office of the Comptroller of the Currency, Attention: 1557-0239 (FFIEC 101), 400 7th Street SW., Suite 3E-218, Mail Stop 9W-11, Washington, DC 20219. In addition, comments may be sent by fax to (571) 465-4326. You may personally inspect and photocopy comments at the OCC, 400 7th Street, SW., Washington, DC 20219. For security reasons, the OCC requires that visitors make an appointment to inspect comments. You may do so by calling (202) 649-6700 or for persons who are deaf or hard of hearing, TTY, (202) 649-5597. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Board: You may submit comments, which should refer to “FFIEC 101,” by any of the following methods:

• Agency Web site: http://www.federalreserve.gov. Follow the instructions for submitting comments at: http://www.federalreserve.gov/generalinfo/foia/ProposedRegs.cfm.

• Federal eRulemaking Portal: http://www.regulations.gov. Follow the instructions for submitting comments.

• Email: regs.comments@federalreserve.gov. Include reporting form number in the subject line of the message.

• Fax: (202) 452-3819 or (202) 452-3102.

• Mail: Robert DeV. Frierson, Secretary, Board of Governors of the Federal Reserve System, 20th Street and Constitution Avenue NW., Washington, DC 20551.

All public comments are available from the Board's Web site at www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9:00 a.m. and 5:00 p.m. on weekdays.

FDIC: You may submit comments, which should refer to “FFIEC 101,” by any of the following methods:

• Agency Web site: https://www.fdic.gov/regulations/laws/federal/. Follow the instructions for submitting comments on the FDIC Web site.

• Federal eRulemaking Portal: http://www.regulations.gov. Follow the instructions for submitting comments.

• Email: comments@FDIC.gov. Include “FFIEC 101” in the subject line of the message.

• Mail: Gary A. Kuiper, Counsel, Room MB-3016, or Manuel E. Cabeza, Counsel, Room MB-3105, Attn: Comments, Federal Deposit Insurance Corporation, 550 17th Street NW., Washington, DC 20429.

• Hand Delivery: Comments may be hand delivered to the guard station at the rear of the 550 17th Street Building (located on F Street) on business days between 7:00 a.m. and 5:00 p.m.

Public Inspection: All comments received will be posted without change to https://www.fdic.gov/regulations/laws/federal/ including any personal information provided. Comments may be inspected at the FDIC Public Information Center, Room E-1002, 3501 Fairfax Drive, Arlington, VA 22226, between 9:00 a.m. and 5:00 p.m. on business days.

Additionally, commenters may send a copy of their comments to the OMB desk officer for the agencies by mail to the Office of Information and Regulatory Affairs, U.S. Office of Management and Budget, New Executive Office Building, Room 10235, 725 17th Street NW., Washington, DC 20503; by fax to (202) 395-6974; or by email to oira_submission@omb.eop.gov.

FOR FURTHER INFORMATION CONTACT: For further information about the proposed revisions to regulatory reporting requirements discussed in this notice, please contact any of the agency clearance officers whose names appear below. In addition, copies of the proposed revised FFIEC 101 form and instructions can be obtained at the FFIEC's Web site (http://www.ffiec.gov/ffiec_report_forms.htm).

OCC: Shaquita Merritt, OCC Clearance Officer, (202) 649-5490, or for persons who are deaf or hard of hearing, TTY, (202) 649-5597, Legislative and Regulatory Activities Division, Office of the Comptroller of the Currency, 400 7th Street SW., Washington, DC 20219.

Board: Nuha Elmaghrabi, Federal Reserve Board Clearance Officer, (202) 452-3829, Office of the Chief Data Officer, Board of Governors of the Federal Reserve System, Washington, DC 20551. Telecommunications Device for the Deaf (TDD) users may contact (202) 263-4869, Board of Governors of the Federal Reserve System, Washington, DC 20551.

FDIC: Gary A. Kuiper, Counsel, (202) 898-3877, or Manuel E. Cabeza, Counsel, (202) 898-3767, Federal Deposit Insurance Corporation, 550 17th Street NW., Washington, DC 20429.

SUPPLEMENTARY INFORMATION: The agencies are proposing to extend for three years, with revision, the FFIEC 101, which is currently an approved collection of information for each agency.

Report Title: Risk-Based Capital Reporting for Institutions Subject to the Advanced Capital Adequacy Framework.

Form Number: FFIEC 101.

Frequency of Response: Quarterly.

Affected Public: Business or other for-profit.

OCC

OMB Number: 1557-0239.

Estimated Number of Respondents: 20 national banks and federal savings associations.

Estimated Time per Response: 674 burden hours per quarter to file.

Estimated Total Annual Burden: 53,920 burden hours to file.

Board

OMB Number: 7100-0319.

Estimated Number of Respondents: 6 state member banks; 16 bank holding companies and savings and loan holding companies; and 6 intermediate holding companies.

Estimated Time per Response: 674 burden hours per quarter for state member banks to file, 677 burden hours per quarter for bank holding companies and savings and loan holding companies to file; 3 burden hours per quarter for intermediate holding companies to file; and 300 burden hours for intermediate holding companies' one-time implementation.

Estimated Total Annual Burden: 16,176 burden hours for state member banks to file; 43,328 burden hours for bank holding companies and savings and loan holding companies to file; 72 burden hours for intermediate holding companies to file; 1,800 burden hours for intermediate holding companies' one-time implementation.

FDIC

OMB Number: 3064-0159.

Estimated Number of Respondents: 2 insured state nonmember banks and state savings associations.

Estimated Time per Response: 674 burden hours per quarter to file.

Estimated Total Annual Burden: 5,392 burden hours to file.

General Description of Reports

Each advanced approaches banking organization is required to file quarterly regulatory capital data on the FFIEC's Regulatory Capital Reporting for Institutions Subject to the Advanced Capital Adequacy Framework (FFIEC 101). The FFIEC 101 information collection is mandatory for institutions subject to the advanced approaches risk-based capital rule (advanced approaches banking organizations): 12 U.S.C. 161 (national banks), 12 U.S.C. 324 (state member banks), 12 U.S.C. 1844(c) (bank holding companies), 12 U.S.C. 1467a(b) (savings and loan holding companies), 12 U.S.C. 1817 (insured state nonmember commercial and savings banks), 12 U.S.C. 1464 (savings associations), and 12 U.S.C. 1844(c), 3106, and 3108 (intermediate holding companies).

The agencies use these data to assess and monitor the levels and components of each reporting entity's capital requirements and the adequacy of the entity's capital under the Advanced Capital Adequacy Framework; to evaluate the impact and competitive implications of the Advanced Capital Adequacy Framework on individual reporting entities and on an industry-wide basis; and to supplement on-site examination processes. The reporting schedules also assist advanced approaches banking organizations in understanding expectations around the system development necessary for implementation and validation of the Advanced Capital Adequacy Framework. Submitted data that are released publicly will also provide other interested parties with information about advanced approaches banking organizations' regulatory capital.

Current Actions

I. Overview of the Proposed SLR Changes

A. Summary of Proposed SLR Changes

The agencies are inviting comment on two proposed new tables that would be added to FFIEC 101 Schedule A to collect information related to the agencies' SLR disclosures required in Table 13 of section 173 of the advanced approaches rule. Proposed Tables 1 and 2, which will replace existing items 91 through 98 of FFIEC 101 Schedule A,¹ would be aligned with the international leverage ratio common disclosure template that was adopted by the Basel Committee on Banking Supervision in January 2014 (international leverage ratio common disclosure template),² with some minor changes to the titles of the line items and clarifications in the instructions, consistent with the revisions to the SLR in the regulatory capital rule (SLR rule) ³ and the accounting terminology of U.S. generally accepted accounting principles. The proposal would incorporate the complete international leverage ratio common disclosure template into Schedule A in order to ensure transparency and comparability of reporting of regulatory capital elements among internationally active banking organizations. However, one item on the international leverage ratio common disclosure template is inapplicable to U.S. firms and has been excluded from proposed Schedule A by being shaded out. Specifically, “Adjustment for fiduciary assets recognized on the balance sheet pursuant to the operative accounting framework but excluded from the leverage ratio exposure measure” is on the international leverage ratio common disclosure template but is not included in proposed Schedule A. The proposed revised Schedule A also would include an additional item applicable to certain advanced approaches bank holding companies only, which would collect data on an advanced approaches bank holding company's enhanced SLR buffer, if applicable.

¹ Although items 91 through 98 are included on the FFIEC 101 report form, these items are currently shaded out and not collected.

² See Basel Committee on Banking Supervision, Basel III leverage ratio framework and disclosure requirements; pages 11-12; available at http://www.bis.org/publ/bcbs270.pdf.

³ See 12 CFR 3.10(c)(4) (OCC) for national banks and Federal savings associations; 12 CFR 217.10(c)(4) (Board) for BHCs, SLHCs, and state member banks; 12 CFR 324.10(c)(4) (FDIC, for state nonmember banks and state savings associations), all as amended by 79 FR 57725 (Sept. 26, 2014).

B. Scope, Timing, and Frequency of Proposed Reporting Changes

The proposed revisions to the FFIEC 101 would apply only to an advanced approaches banking organization as described in section 173(a)(2) of the advanced approaches rule.⁴ Generally, the SLR disclosures apply to an advanced approaches institution, unless it is (1) a consolidated subsidiary of a BHC, SLHC, or depository institution that is subject to these disclosure requirements; or (2) a subsidiary of a non-U.S. banking organization that is subject to comparable public disclosure requirements in its home jurisdiction. Completing the proposed FFIEC 101 items for the SLR would satisfy an advanced approaches banking organization's requirement to disclose Table 13.

⁴ A top-tier advanced approaches banking organization would be required to complete Tables 1 and 2 of FFIEC 101 Schedule A, regardless of parallel run status. Any advanced approaches banking organization that is a consolidated subsidiary of a top-tier advanced approaches BHC, SLHC, or insured depository institution would not complete Tables 1 and 2.

Separately, each advanced approaches banking organization, regardless of its parallel run status, is required to disclose its SLR, and the numerator and denominator of its SLR, under section 172(d) of the advanced approaches rule.⁵ This is a separate disclosure requirement, which the agencies have proposed to implement for banks and savings associations that are advanced approaches banking organizations through a revision to Schedule RC-R, Part I, Regulatory Capital Components and Ratios, of the Consolidated Reports of Condition and Income (Call Report) (FFIEC 031 and 041) ⁶ reporting forms using the standard PRA notice and comment process.⁷

⁵ See 12 CFR 3.172(d) (OCC); 12 CFR 217.172(d) (Board); and 12 CFR 324.172(d) (FDIC).

⁶ OMB Numbers: OCC, 1557-0081; Board, 7100-0036; and FDIC, 3064-0052.

⁷ See 80 FR 56539 (September 18, 2015).

An IHC formed or designated for purposes of compliance with the Board's Regulation YY (12 CFR 252.153) is required to meet all applicable capital adequacy standards set forth in the Board's Regulation Q, except for subpart E.⁸ An IHC that meets the definition of an advanced approaches banking organization under the Board's Regulation Q (12 CFR 217.100) (advanced approaches IHC) would begin reporting the proposed SLR data items in the FFIEC 101 effective with the March 31, 2018, reporting date, and would begin calculating these proposed items starting January 1, 2018. This reporting requirement is consistent with Regulation YY, which subjects advanced approaches IHCs to the SLR beginning on January 1, 2018.⁹ Such an IHC would not be required to complete the rest of the FFIEC 101 because Regulation YY requires an IHC to calculate its risk-based capital requirements using only the standardized approach, and not the advanced approaches rule, even if it meets the advanced approaches applicability threshold.¹⁰ Further, any subsidiary BHC that is controlled by an FBO that was subject to the SLR disclosures prior to the formation of an IHC would complete FFIEC 101 Schedule A, Tables 1 and 2, through the December 31, 2017, reporting date.

⁸ See 12 CFR 252.153(e)(2)(i)(A).

⁹ See Id.

¹⁰ An IHC that chooses to comply with subpart E of 12 CFR part 217 would be required to report the entirety of the FFIEC 101. See 12 CFR 252.153(e)(2)(i)(B). In contrast, a bank holding company that is a subsidiary of a foreign banking organization that is subject to subpart E of 12 CFR part 217, but that has received prior written approval from the Board to not comply with subpart E of 12 CFR part 217, would not be required to report the entire FFIEC 101, but generally would be expected to complete Schedule A. See 12 CFR 252.153(e)(2)(i)(C).

Depository institutions that are exempt from filing the FFIEC 101, but remain subject to the SLR, would not need to begin filing the FFIEC 101. Instead, these institutions would report their SLR, and the numerator and denominator of their SLR, under the proposed Call Report revisions discussed above.

The agencies propose to collect the SLR information in Tables 1 and 2 of FFIEC 101 Schedule A quarterly. Each reporting entity would continue to submit the applicable quarterly reports on the same due dates as are currently in effect for the reporting entity for as long as it remains subject to the requirements of section 173(a)(2) of the advanced approaches rule.

C. Confidentiality

To ensure transparency of regulatory capital data reported by internationally active banking organizations, the agencies propose to make public the SLR information collected in proposed SLR Tables 1 and 2 of FFIEC 101 Schedule A, regardless of an advanced approaches banking organization's parallel run status.

D. Initial Reporting

For the September 30, 2016, and March 31, 2018, initial report dates, as applicable, banking organizations may provide reasonable estimates for any new or revised items in SLR Tables 1 and 2 of FFIEC 101 Schedule A initially required to be reported as of that date for which the requested information is not readily available. The specific wording of the captions for the new or revised SLR items discussed in this proposal and the numbering of these data items should be regarded as preliminary.

II. Detail of the Proposed FFIEC 101 SLR Data Changes

Schedule A: Advanced Approaches Regulatory Capital

As described in section I.A of this proposal, the proposed SLR items in FFIEC 101 Schedule A, Tables 1 and 2, are aligned with the international leverage ratio common disclosure template to ensure consistency and comparability of reporting of regulatory capital elements by internationally active banking organizations. While the SLR calculated under the SLR rule and this reporting proposal would be the same, the proposed SLR items in Tables 1 and 2 may require different calculation steps than those described in the SLR rule because Tables 1 and 2 have been designed to be consistent with the calculation steps in the international template.

The proposed items are divided into two tables: (1) Summary comparison of accounting assets and total leverage exposure (Table 1) and (2) Supplementary leverage ratio (Table 2). A brief description of each of these tables and the proposed items is provided below.

A. Table 1, Items 1.1-1.8: Summary Comparison of Accounting Assets and Total Leverage Exposure

Proposed Table 1, items 1.1 through 1.8, would collect summary information on accounting assets for purposes of reconciling balance sheet assets reported in published financial statements and total leverage exposure. The proposed items align with those included in Table 1 of the international leverage ratio common disclosure template. Item 1.1 would collect total consolidated assets as of quarter end as reported in published financial statements. Item 1.2 would collect the adjustment for investments in banking, financial, insurance, and commercial entities that are consolidated for accounting purposes but are outside the scope of regulatory consolidation. Item 1.3, adjustment for fiduciary assets recognized on-balance sheet but excluded from total leverage exposure, would be shaded out and not collected, as it is not applicable to U.S. banking organizations. Item 1.4 would collect the accounting and regulatory adjustments required to reconcile what an institution reports on its published financial statements with the amount an institution includes for exposures to derivatives transactions in total leverage exposure (calculated on a quarter end basis), in addition to any off-balance sheet and related regulatory adjustments (calculated using the mean of the amount calculated as of the last day of each of the three months of the reporting quarter). Similarly, item 1.5 would collect the accounting and regulatory adjustments required to reconcile what an institution reports on its published financial statements with the amount an institution includes for exposures to repo-style transactions in its total leverage exposure (calculated on a quarter end basis), in addition to any off-balance sheet and related regulatory adjustments (calculated using the mean of the amount calculated as of the last day of each of the three months of the reporting quarter). Item 1.6 would collect the adjustment for off-balance sheet exposures. Item 1.7 would include two subcomponents where item 1.7a would collect adjustments for deductions from tier 1 capital and item 1.7b would collect adjustments due to the difference in the frequency of certain calculations required for accounting purposes compared to the measurement required for purposes of total leverage exposure. Specifically, 1.7b would adjust an institution's calculations in Table 1, items 1.1, 1.4 and 1.5 that are reported on a quarter end basis to a daily average as required in the calculation of an institution's total leverage exposure as reported in Table 2, item 2.21. Item 1.8 would collect total leverage exposure by summing items 1.1 through 1.6 and subtracting items 1.7a and 1.7b. This item should equal Table 2, item 2.21.

The agencies request comment on whether Table 1 should include an additional reporting item for any other adjustments necessary to reconcile an institution's balance sheet assets reported in published financial statement with total leverage exposure as reported in Table 2, item 2.21. Commenters should also provide a description of the additional adjustments.

B. Table 2, Items 2.1-2.23: Supplementary Leverage Ratio

Proposed Table 2, items 2.1 through 2.23, would collect detailed information for the calculation of total leverage exposure and the SLR, consistent with the international leverage ratio common disclosure template.

Items 2.1 through 2.3 would collect information about an institution's on-balance sheet exposures. Item 2.1 would collect the balance sheet carrying value of all on-balance sheet assets, net of the allowance for loan and lease losses as defined in the regulatory capital rule (excluding on-balance sheet assets for derivative transactions and repo-style transactions, but including on-balance sheet collateral received in derivative transactions). Item 2.2 would collect deductions from common equity tier 1 capital and additional tier 1 capital, calculated as the sum of existing items 28 and 43 on Schedule A of the FFIEC 101, net of Schedule A, items 11, 14, and certain amounts reported in item 27. Item 2.3 would collect total on-balance sheet exposures, calculated as the difference between items 2.1 and 2.2.

Items 2.4 through 2.11 would collect information about an institution's derivative exposures. Item 2.4 would collect the replacement cost for cleared and non-cleared derivative transactions. Item 2.5 would collect the add-on amounts for potential future exposure (PFE) for all derivative transactions included in item 2.4 (regardless of whether the transaction or the transaction's netting set has a positive or negative fair value). Item 2.6 would collect the gross-up amount for collateral posted in derivative transactions if the collateral is deducted from on-balance sheet assets. Item 2.7 would collect the deduction of receivable assets for qualifying cash variation margin posted in derivative transactions. Item 2.8 would collect exempted exposures to central counterparties in cleared transactions. Item 2.9 would collect the adjusted effective notional principal amount of sold credit protection. Item 2.10 would collect the adjusted effective notional principal amount offsets and PFE deductions for sold credit protection. Item 2.11 would collect total derivative exposures, calculated as the sum of items 2.4, 2.5, 2.6, and 2.9, minus items 2.7, 2.8, and 2.10.

Items 2.12 through 2.16 would collect information about an institution's repo-style transactions. Item 2.12 would collect gross assets for repo-style transactions, with no recognition of netting. Item 2.13 would collect the reduction of the gross value of receivables in reverse repurchase transactions by cash payables in repurchase transactions with the same counterparty. Item 2.14 would collect the counterparty credit risk for all repo-style transactions. Item 2.15 would collect the exposure amount for repo-style transactions where an institution acts as an agent. Item 2.16 would collect total exposures for repo-style transactions, calculated as the sum of items 2.12, 2.14, and 2.15, minus item 2.13.

Items 2.17 through 2.19 would collect information about an institution's off-balance sheet exposures. Item 2.17 would collect off-balance sheet exposures at gross notional amounts. Item 2.18 would collect adjustments for conversion to credit equivalent amounts. Item 2.19 would collect total off-balance sheet exposures, calculated as the difference between items 2.17 and 2.18.

Items 2.20 through 2.22 would collect information about an institution's capital, total leverage exposure, and the SLR. Item 2.20 would collect tier 1 capital as reported in existing item 45 on Schedule A of the FFIEC 101. Item 2.21 would collect total leverage exposure, calculated as the sum of items 2.3, 2.11, 2.16, and 2.19. Item 2.22 would collect the SLR, calculated by dividing item 2.20 by item 2.21.¹¹

¹¹ The SLR is also reported in the Call Report, Schedule RC-R, and the FR Y-9C, Schedule HC-R. The agencies are planning to revise the instructions for the items in these reports in which the SLR is reported to cross-reference the SLR reported in proposed item 2.22 in Table 2 of the FFIEC 101 for those institutions that will report the proposed SLR item in the FFIEC 101.

Item 2.23, the enhanced SLR buffer, is an additional line item that is not included on the international leverage ratio common disclosure template. This item would apply only to advanced approaches BHCs that are subject to the enhanced SLR standard and it would help determine whether the bank holding company is subject to limitations on capital distributions and discretionary bonus payments.¹²

¹² 79 FR 24528 (May 1, 2014); 80 FR 49082 (August 14, 2015).

III. Reporting the Legal Entity Identifier

The Legal Entity Identifier (LEI) is a 20-digit alpha-numeric code that uniquely identifies entities that engage in financial transactions. The recent financial crisis spurred the development of a Global LEI System (GLEIS). Internationally, regulators and market participants have recognized the importance of the LEI as a key improvement in financial data systems. The Group of Twenty (G-20) nations directed the Financial Stability Board (FSB) to lead the coordination of international regulatory work and deliver concrete recommendations on the GLEIS by mid-2012, which in turn were endorsed by the G-20 later that same year. In January 2013, the LEI Regulatory Oversight Committee (ROC), including participation by regulators from around the world, was established to oversee the GLEIS on an interim basis. With the establishment of the full Global LEI Foundation in 2014, the ROC continues to review and develop broad policy standards for LEIs. The OCC, the Board, and the FDIC are all members of the ROC.

The LEI system is designed to facilitate several financial stability objectives, including the provision of higher quality and more accurate financial data. In the United States, the Financial Stability Oversight Council (FSOC) has recommended that regulators and market participants continue to work together to improve the quality and comprehensiveness of financial data both nationally and globally. In this regard, the FSOC also has recommended that its member agencies promote the use of the LEI in reporting requirements and rulemakings, where appropriate.¹³

¹³ Financial Stability Oversight Council 2015 Annual Report, page 14, http://www.treasury.gov/initiatives/fsoc/studies-reports/Documents/2015%20FSOC%20Annual%20Report.pdf.

Effective beginning October 31, 2014, the Board started requiring holding companies to provide their LEI on the cover pages of the FR Y-6, FR Y-7, and FR Y-10 reports ¹⁴ only if a holding company already has an LEI. Thus, if a reporting holding company does not have an LEI, it is not required to obtain one for purposes of these Board reports. Additionally, effective December 31, 2015, the Board expanded the collection of the LEI to all holding company subsidiary banking and nonbanking legal entities reportable on certain schedules of the FR Y-10 and in one section of the FR Y-6 and FR Y-7 if an LEI has already been issued for the reportable entity.¹⁵ With respect to the FFIEC 101, the agencies are proposing to have advanced approaches banking organizations provide their LEI on the cover page of the report beginning March 31, 2016, only if an organization already has an LEI. As with the Board reports, an advanced approaches banking organization that does not have an LEI would not be required to obtain one for purposes of reporting it on the FFIEC 101.

¹⁴ FR Y-6, Annual Report of Holding Companies; FR Y-7, Annual Report of Foreign Banking Organizations; and FR Y-10, Report of Changes in Organizational Structure (OMB No. 7100-0297).

¹⁵ 80 FR 38202 (July 2, 2015).

IV. Request for Comment

Public comment is requested on all aspects of this joint notice. Comments are invited on

(a) Whether the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies and will be summarized or included in the agencies' requests for OMB approval. All comments will become a matter of public record.

Dated: April 7, 2016.
Stuart Feldstein,
Director, Legislative and Regulatory Activities Division, Office of the Comptroller of the Currency.
Board of Governors of the Federal Reserve System, April 13, 2016.
Robert deV. Frierson,
Secretary of the Board.
Dated at Washington, DC, this 6th day of April, 2016.
Federal Deposit Insurance Corporation.
Robert E. Feldman,
Executive Secretary.

[FR Doc. 2016-08892 Filed 4-15-16; 8:45 am]

BILLING CODE 4810-33-P; 6210-01-01-P; 6714-01-P